DEPARTMENT OF ENERGY

Federal Energy Regulatory Commission

Combined Notice of Filings

Take notice that the Commission has received the following Natural Gas & Oil Pipeline Rate and Refund Report filings:

Filings Instituting Proceedings

Docket Numbers: RP23-797-000.

Applicants: Sabal Trail Transmission, LLC.

Description: § 4(d) Rate Filing: Negotiated Rate—Seminole Electric K850037 to be effective 6/1/2023.

Filed Date: 5/31/23.

Accession Number: 20230531-5029.

Comment Date: 5 p.m. ET 6/12/23.

Docket Numbers: RP23-798-000.

Applicants: Kinder Morgan Louisiana Pipeline LLC.

Description: § 4(d) Rate Filing: Periodic Rate Adjustment—Fuel and L&U Retention Percentages July 2023 to be effective 7/1/2023.

Filed Date: 5/31/23.

Accession Number: 20230531-5047.

Comment Date: 5 p.m. ET 6/12/23.

Docket Numbers: RP23-799-000.

Applicants: Sea Robin Pipeline Company, LLC.

Description: § 4(d) Rate Filing: 5-31-23 Fuel Tracker to be effective 7/1/2023.

Filed Date: 5/31/23.

Accession Number: 20230531-5053.

Comment Date: 5 p.m. ET 6/12/23.

Docket Numbers: RP23-800-000.

Applicants: Viking Gas Transmission Company.

Description: § 4(d) Rate Filing: Interim Fuel and Losses Retention Adjustment to be effective 7/1/2023.

Filed Date: 5/31/23.

Accession Number: 20230531-5063.

Comment Date: 5 p.m. ET 6/12/23.

Docket Numbers: RP23-801-000.

Applicants: El Paso Natural Gas Company, L.L.C.

Description: § 4(d) Rate Filing: Negotiated Rate Agmt Update (Conoco—June 23) to be effective 6/1/2023.

Filed Date: 5/31/23.

Accession Number: 20230531-5107.

Comment Date: 5 p.m. ET 6/12/23.

Docket Numbers: RP23-802-000.

Applicants: El Paso Natural Gas Company, L.L.C.

Description: § 4(d) Rate Filing: Negotiated Rate Agreement Update (Hartree June 2023) to be effective 6/1/2023.

Filed Date: 5/31/23.

Accession Number: 20230531-5128.

Comment Date: 5 p.m. ET 6/12/23.

Docket Numbers: RP23-803-000.

Applicants: Northern Natural Gas Company.

Description: § 4(d) Rate Filing: 20230531 Negotiated Rate to be effective 6/1/2023.

Filed Date: 5/31/23.

Accession Number: 20230531-5139.

Comment Date: 5 p.m. ET 6/12/23.

Docket Numbers: RP23-804-000.

Applicants: Rockies Express Pipeline LLC.

Description: § 4(d) Rate Filing: REX 2023-05-31 Negotiated Rate Agreements to be effective 6/1/2023.

Filed Date: 5/31/23.

Accession Number: 20230531-5162.

Comment Date: 5 p.m. ET 6/12/23.

Docket Numbers: RP23-805-000.

Applicants: Ruby Pipeline, L.L.C.

Description: § 4(d) Rate Filing: RP 2023-05-31 Negotiated Rate Agreement to be effective 7/1/2023.

Filed Date: 5/31/23.

Accession Number: 20230531-5167.

Comment Date: 5 p.m. ET 6/12/23.

Docket Numbers: RP23-806-000.

Applicants: Southern Star Central Gas Pipeline, Inc.

Description: § 4(d) Rate Filing: Vol. 2—Negotiated Rate Agreement—Tenaska FTS-P to be effective 6/1/2023.

Filed Date: 5/31/23.

Accession Number: 20230531-5216.

Comment Date: 5 p.m. ET 6/12/23.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 31, 2023.
Debbie-Anne A. Reese,
Deputy Secretary.

[FR Doc. 2023-12032 Filed 6-5-23; 8:45 am]

BILLING CODE 6717-01-P